INTERNATIONAL TRADE COMMISSION

[Investigation No. 731-TA-432 (Second Review)]

Drafting Machines From Japan

AGENCY: United States International Trade Commission.

ACTION: Termination of five-year review.

SUMMARY: The subject five-year review was initiated in October 2004 to determine whether revocation of the antidumping duty order on drafting machines from Japan would be likely to lead to continuation or recurrence of dumping and of material injury to a domestic industry. On December 27, 2004, the Department of Commerce published notice that it was revoking the order effective November 24, 2004 because “the only domestic interested party withdrew its interest in this sunset review” (69 FR 77183). Accordingly, pursuant to section 751(c) of the Tariff Act of 1930 (19 U.S.C. 1675(c)), the subject review is terminated.

EFFECTIVE DATES: November 24, 2004.

FOR FURTHER INFORMATION CONTACT: Mary Messer (202-205-3193), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its Internet server (http://www.usitc.gov).

Authority: This review is being terminated under authority of title VII of the Tariff Act of 1930; this notice is published pursuant to section 207.69 of the Commission's rules (19 CFR 207.69).

By order of the Commission.
Issued: January 10, 2005.
Marilyn R. Abbott,
Secretary to the Commission.

[FR Doc. 05-808 Filed 1-13-05; 8:45 am]

BILLING CODE 7020-02-P